Title 3—

The President

Memorandum of September 24, 2019

Delegation of Functions and Authorities Under the Better Utilization of Investments Leading to Development Act of 2018

Memorandum for the President of the Overseas Private Investment Corporation [and] the Administrator of the United States Agency for International Development

By the authority vested in me as President by the Constitution and the laws of the United States of America, including section 1462 of title VI of division F of Public Law 115-254 (section 9682 of title 22, United States Code) (the “Act”), and section 301 of title 3, United States Code, I hereby delegate to the President of the Overseas Private Investment Corporation, in consultation with the Administrator of the United States Agency for International Development, the functions and authorities vested in the President by the Act to submit a reorganization plan, including any modifications or revisions thereto, and to consult with the appropriate congressional committees on such plan, including any modifications and revisions thereto.

The President of the Overseas Private Investment Corporation is authorized and directed to publish this memorandum in the Federal Register.

THE WHITE HOUSE,

Washington, September 24, 2019

[FR Doc. 2019-21504

Filed 9-30-19; 11:15 am]

Billing code 3210-01-P